DEPARTMENT OF DEFENSE

GENERAL SERVICES ADMINISTRATION

NATIONAL AERONAUTICS AND SPACE ADMINISTRATION

48 CFR Parts 11, 41, 44, 51, and 52

[FAC 2001-26; Item VII]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATE: Effective Date: December 20, 2004.

FOR FURTHER INFORMATION CONTACT: The FAR Secretariat, Room 4035, GS Building, Washington, DC, 20405, (202) 501-4755, for information pertaining to status or publication schedules. Please cite FAC 2001-26, Technical Amendments.

List of Subjects in 48 CFR Parts 11, 41, 44, 51, and 52

Government procurement.

Dated: December 9, 2004.
Laura Auletta,
Director, Contract Policy Division.

Therefore, DoD, GSA, and NASA amend 48 CFR parts 11, 41, 44, 51, and 52 as set forth below:

1. The authority citation for 48 CFR parts 11, 41, 44, 51, and 52 is revised to read as follows:

Authority: Authority: 40 U.S.C. 121(c); 10 U.S.C. chapter 137; and 42 U.S.C. 2473(c).

PART 11—DESCRIBING AGENCY NEEDS

11.201 [Amended]

2. Amend section 11.201 in paragraph (d)(2)(i) by removing http://assist.daps.mil and adding http://assist.daps.dla.mil in its place.

PART 41—ACQUISITION OF UTILITY SERVICES

3. Amend section 41.301 by revising the second sentence of paragraph (a) to read as follows:

41.301 Requirements.

(a) * * * The names and locations of GSA regional offices are available from the General Services Administration, Energy Center of Expertise, 301 7th Street, SW., Room 4004, Washington, DC 20407.

* * * * *

PART 44—SUBCONTRACTING POLICIES AND PROCEDURES

44.203 [Amended]

4. Amend section 44.203 in paragraph (b)(1) by removing “16.301-3” and adding “15.404-4(c)(4)(i)” in its place.

PART 51—USE OF GOVERNMENT SOURCES BY CONTRACTORS

51.102 [Amended]

5. Amend section 51.102 by removing “FCSI” from paragraph (c)(1) and adding “FXS” in its place.

PART 52—SOLICITATION PROVISIONS AND CONTRACT CLAUSES

52.219-1 [Amended]

6. Amend section 52.219-1 by removing “19.307(a)(1)” from the introductory text and adding “19.308(a)(1)” in its place.

[FR Doc. 04-27639 Filed 12-17-04; 8:45 am]

BILLING CODE 6820-EP-S